DEPARTMENT OF COMMERCE

National Oceanic and Atmospheric Administration

50 CFR Part 660

[Docket No. 000504124-0124-01; I.D. 011900B]

RIN 0648-AK11

Fisheries off the West Coast and in the Western Pacific; Prohibition on the Use of Set Net Fishing Gear; Withdrawal of Proposed Rule

AGENCY: National Marine Fisheries Service (NMFS), National Oceanic and Atmospheric Administration (NOAA), Commerce.

ACTION: Proposed rule; withdrawal.

SUMMARY: NMFS withdraws the May 19, 2000, proposed rule to prohibit the use of set net (gillnet and trammel nets) fishing gear to take groundfish species in portions of the U.S. exclusive economic zone (EEZ) (also known as the fishery management area) adjacent to State waters at four areas off California. Groundfish fisheries in the fishery management area are managed under the Fishery Management Plan for Groundfish Fisheries off the West Coast (Groundfish FMP). The proposed rule is being withdrawn because it is not necessary and appropriate for the conservation and management of groundfish fisheries under the Magnuson-Stevens Fishery Conservation and Management Act (Magnuson-Stevens Act) and the Groundfish FMP.

DATES: This proposed rule is withdrawn June 25, 2002.

FOR FURTHER INFORMATION CONTACT: Svein Fougner, Sustainable Fisheries Division, Southwest Region, NMFS, 562-980-4040.

SUPPLEMENTARY INFORMATION: A proposed rule was published on May 19, 2000 (65 FR 31871), that would have prohibited the use of set net (gillnet and trammel nets) fishing gear to take groundfish species in portions of the EEZ (also known as the fishery management area) adjacent to state waters at 4 locations off California. The history of the action and the rationale for the proposed rule were provided in the preamble to the proposed rule and will not be repeated here.

Upon reviewing the history of this action, the comments received on the proposed rule, and the legal and management issues involved, NMFS has concluded that the proposed rule should be withdrawn. Only one of the 4 EEZ areas that would have been closed to set net use is currently used by set net fishers. The vessels that use set net gear at this area (Huntington Flats) do not target groundfish, and their catches of groundfish are so small as to have minimal effect on the stocks. Fishing by these vessels thus does not adversely affect the administration and implementation of the Groundfish FMP. Accordingly, it is not necessary to control their fishing activities under the regulations implementing the Groundfish FMP in order to further the objectives of the Groundfish FMP or to achieve optimum yield and prevent overfishing. Therefore, NMFS is hereby withdrawing the proposed rule because it is not necessary and appropriate under the Magnuson-Stevens Act and other applicable law.

Authority: 16 U.S.C. 1801 et seq.

Dated: June 18, 2002.
Rebecca Lent,
Deputy Assistant Administrator for Regulatory Programs, National Marine Fisheries Service.

[FR Doc. 02-15989 Filed 6-24-02; 8:45 am]

BILLING CODE 3510-22-S